DEPARTMENT OF EDUCATION

Applications for New Awards; Educational Technology, Media, and Materials for Individuals With Disabilities—National Center To Improve Faculty Capacity To Use Educational Technology in Special Education Personnel and Leadership Preparation Programs

AGENCY: Office of Special Education and Rehabilitative Services, Department of Education.

ACTION: Notice.

SUMMARY: The Department of Education (Department) is issuing a notice inviting applications for new awards for fiscal year (FY) 2025 for Educational Technology, Media, and Materials for Individuals with Disabilities—National Center to Improve Faculty Capacity to Use Educational Technology in Special Education Personnel and Leadership Preparation Programs.

DATES:

Applications Available: June 25, 2025.

Deadline for Transmittal of Applications: July 25, 2025.

Deadline for Intergovernmental Review: August 25, 2025.

Pre-Application Webinar Information: No later than June 30, 2025, the Office of Special Education and Rehabilitative Services (OSERS) will post pre-recorded informational webinars designed to provide technical assistance (TA) to interested applicants. Links to the webinars may be found at www.ed.gov/about/ed-offices/osers/osep/new-osep-grant-competitions.

ADDRESSES: For the addresses for obtaining and submitting an application, please refer to our Common Instructions for Applicants to Department of Education Discretionary Grant Programs, published in the Federal Register on December 23, 2024 (89 FR 104528) and available at www.federalregister.gov/documents/2024/12/23/2024-30488/common-instructions-for-applicants-to-department-of-education-discretionary-grant-programs.

FOR FURTHER INFORMATION CONTACT: Tina Diamond, U.S. Department of Education, 400 Maryland Avenue SW, Room 4A10, Washington, DC 20202. Telephone: (202) 245-6723. Email: christina.diamond@ed.gov.

If you are deaf, hard of hearing, or have a speech disability and wish to access telecommunications relay services, please dial 7-1-1.

SUPPLEMENTARY INFORMATION:

Full Text of Announcement

I. Funding Opportunity Description

Purpose of Program: The Educational Technology, Media, and Materials for Individuals with Disabilities Program is designed to improve results for children with disabilities by: (1) promoting the development, demonstration, and use of technology; (2) supporting educational activities designed to be of educational value in the classroom for children with disabilities; (3) providing support for captioning and video description that is appropriate for use in the classroom; and (4) providing accessible educational materials to children with disabilities in a timely manner.

Assistance Listing Number (ALN): 84.327F.

OMB Control Number: 1820-0028.

Priority: This competition includes one absolute priority. In accordance with 34 CFR 75.105(b)(2)(v), this priority is from allowable activities specified in the statute (see sections 674(b) and 681(d) of the Individuals with Disabilities Education Act (IDEA); 20 U.S.C. 1474(b) and 1481(d)).

Absolute Priority: For FY 2025 and any subsequent year in which we make awards from the list of unfunded applications from this competition, this priority is an absolute priority. Under 34 CFR 75.105(c)(3), we consider only applications that meet this priority.

This priority is:

National Center to Improve Faculty Capacity to Use Educational Technology in Special Education Personnel and Leadership Preparation Programs.

Background:

Educational technology includes a range of technologies, from those that are universally designed to support all learners to highly customized assistive technology (AT) devices designed to support the needs of individual learners with disabilities.

To realize the power of educational technology, educators must be adequately prepared, have confidence in their ability to integrate and implement educational technology in their teaching, and understand emerging technologies such as artificial intelligence (AI) (Anderson & Putman, 2020).

For educators to effectively implement educational technology, institutions of higher education (IHEs) that prepare and provide continuing education must integrate educational and assistive technologies into their programs of study so that special education personnel and leadership program graduates have experienced effective educational technology integration. IHE faculty vary in their content expertise, experiences in course design, and technological knowledge and skills for teaching and learning, and this variability influences their use of educational technology (Hughes et al., 2016; Vogel et al., 2024). Challenges for faculty at IHEs include the time commitment needed to change instructional approaches and lack of access to sustained professional development to support the continued use of educational technology (Polly et al., 2021; See also Case Studies by the Center for Innovation, Design, and Digital Learning available at https://ciddl.org/case-studies/). Additional challenges exist when IHEs move special education personnel preparation programs or leadership preparation programs that have historically operated on campus and in-person to virtual programs that operate exclusively online (Karchmer-Klein, 2020). Competencies needed by faculty at IHEs to effectively prepare future educators and leaders have been proposed, and approaches to the acquisition of these competencies need to be explored (Foulger et al., 2017). Institutional incentives to increase faculty knowledge and use of educational technology exist (e.g., reduced teaching load, financial compensation) but often are not offered (Kolb et al., 2018). In addition, educational technology continues to rapidly expand and evolve, which presents challenges for faculty at IHEs to stay up to date on innovative tools and strategies. Keeping current on educational technology is critical, as advances in AI and educational technology have the potential to significantly impact special education practices (Center for Innovation, Design, and Digital Learning, 2024; National Academies of Sciences, Engineering, and Medicine, 2024; Waterfield et al., 2024).

Priority:

The purpose of this priority is to fund a cooperative agreement to establish and operate a National Center to Improve Faculty Capacity to Use Educational Technology in Special Education Personnel and Leadership Preparation Programs. For the purposes of this priority, educational technology includes AT devices ¹ and AI.² This project will support faculty at IHEs by improving their knowledge and use of educational technology, and their capacity to sustain its use in special education personnel and leadership preparation programs.

¹ The term “assistive technology device” or “AT device” has the meaning set forth in 20 U.S.C. 1401(1): Any item, piece of equipment, or product system, whether acquired commercially off the shelf, modified, or customized, that is used to increase, maintain, or improve the functional capabilities of a child with a disability. The term does not include a medical device that is surgically implanted, or the replacement of such device.

² The term “artificial intelligence” or “AI” has the meaning set forth in 15 U.S.C. 9401(3): A machine-based system that can, for a given set of human-defined objectives, make predictions, recommendations, or decisions influencing real or virtual environments. AI systems use machine- and human-based inputs to perceive real and virtual environments; abstract such perceptions into models through analysis in an automated manner; and use model inference to formulate options for information or action.

The project must achieve, at a minimum, the following expected outcomes:

(a) Increased knowledge of faculty at IHEs about the range of educational technologies that can be used within special education personnel and leadership preparation programs;

(b) Increased capacity of faculty at IHEs to use a range of educational technologies within special education personnel and leadership preparation programs;

(c) Increased capacity of faculty within and across IHEs to establish and sustain professional learning networks related to the use of educational technologies within special education personnel and leadership preparation programs to keep up with technological innovations;

(d) Increased integration of educational technologies and practices throughout special education personnel and leadership preparation programs; and

(e) Increased number of special education personnel and leadership preparation program graduates who enter the field well-prepared to integrate educational technologies and innovative technology practices, especially evidence-based technology and practices that improve literacy outcomes, to better serve children with disabilities and their families.

In addition, to be considered for funding under this priority, applicants must meet the following requirements:

(a) Describe, in the narrative section of the application under “Significance,” how the proposed project will address faculty needs at IHEs to identify, select, use, and integrate educational technology into their special education personnel and leadership preparation programs. To meet this requirement the applicant must—

(1) Present information on the types of educational technology that can be used in special education personnel and leadership preparation programs that support both in-person and distance learning;

(2) Present information on the extent to which special education personnel and leadership preparation programs have currently integrated educational technology, including AT, into their courses and content; and

(3) Identify systemic barriers, gaps, or challenges to integrating educational technology in special education personnel and leadership preparation programs.

(b) Describe, in the narrative section of the application under “Quality of the project design,” how the proposed project will—

(1) Achieve its goals, objectives, and intended outcomes. To meet this requirement, the applicant must provide—

(i) Measurable intended project outcomes; and

(ii) In Appendix A, the logic model (as defined in 34 CFR 77.1) by which the proposed project will achieve its intended outcomes that depicts, at a minimum, the goals, activities, outputs, and intended outcomes of the proposed project;

Note: The following website provides more information on logic models: https://ies.ed.gov/use-work/resource-library/resource/tooltoolkit/program-evaluation-toolkit.

(2) Use a conceptual framework (and provide a copy in Appendix A) to develop project plans and activities, describing any underlying concepts, assumptions, expectations, beliefs, or theories, as well as the presumed relationships or linkages among these variables, and any empirical support for this framework;

(3) Be based on current research and make use of evidence-based ³ practices (EBPs) on educational technology for special education personnel and leadership preparation programs. To meet this requirement, the applicant must describe—

³ For the purposes of this priority, “evidence-based” means the proposed project component is supported by one or more of strong evidence, moderate evidence, promising evidence, or evidence that demonstrates a rationale (34 CFR 77.1).

(i) The current literature and research on—

(A) Educational technology, including technologies that support distance learning, for special education personnel and leadership preparation programs; the evidence base related to its effectiveness; and the effective use of such technologies;

(B) How to support faculty at IHEs in the use of educational technology to prepare future special educators and leaders; and

(C) Factors associated with the integration of educational technology, including technologies that support distance learning, into courses and components of special education personnel and leadership preparation programs, and how to address those factors;

(ii) How the proposed project will incorporate current literature and research in the development and refinement of frameworks for integrating technology in preparation programs and engaging in sustained professional learning networks;

(iii) How the proposed project will identify faculty at IHEs or preparation programs that have promising approaches and practices for integrating educational technology in its special education personnel and leadership preparation programs, and incorporate that information into the development and refinement of the framework;

(iv) The current research about adult learning principles and implementation science that will inform the proposed TA to IHE faculty within special education personnel and leadership preparation programs; and

(v) How the proposed project will incorporate current research and EBPs in the development and delivery of its products and services;

(4) Develop products and provide TA services that are of high quality and sufficient intensity and duration to achieve the intended outcomes of the proposed project. To address this requirement, the applicant must describe—

(i) How it proposes to identify or develop the knowledge base related to educational technology for special education personnel and leadership preparation programs, its effectiveness, and how to use the technologies; and

(ii) How it proposes to engage constituents in the development and refinement of a framework for—

(A) How to support IHE faculty to acquire needed competencies for integrating educational technology within special education personnel and leadership preparation programs; and

(B) Increasing capacity of faculty within and across IHEs to create and sustain professional learning networks related to educational technology and its integration in special education personnel and leadership preparation programs;

(iii) The proposed approach to universal, general TA,⁴ which must describe—

⁴ “Universal, general TA” means TA and information provided to independent users through their own initiative, resulting in minimal interaction with TA project staff and including one-time, invited or offered conference presentations by TA project staff. This category of TA also includes information or products, such as newsletters, guidebooks, or research syntheses, downloaded from the TA project's website by independent users. Brief communications by TA project staff with recipients, either by telephone or email, are also considered universal, general TA.

(A) The intended recipients, including the type and number of recipients, that will receive the products and services;

(B) The products and services that the project proposes to make available;

(C) The development and maintenance of a high-quality website, with an easy-to-navigate design, that meets or exceeds government- or industry-recognized standards for accessibility; and

(D) The expected reach and impact of universal, general TA;

(iv) The proposed approach to targeted, specialized TA,⁵ which must describe—

⁵ “Targeted, specialized TA” means TA services based on needs common to multiple recipients and not extensively individualized. A relationship is established between the TA recipient and one or more TA project staff. This category of TA includes one-time, labor-intensive events, such as facilitating strategic planning or hosting regional or national conferences. It can also include episodic, less labor-intensive events that extend over a period of time, such as facilitating a series of conference calls on single or multiple topics that are designed around the needs of the recipients. Facilitating communities of practice can also be considered targeted, specialized TA.

(A) The intended recipients, including the type and number of recipients, that will receive the products and services;

(B) The products and services that the project proposes to make available;

(C) The proposed approach to measure the readiness of potential TA recipients to work with the project, including, at a minimum, an assessment of potential recipients' current infrastructure, available resources, and ability to build capacity at the local level;

(D) How the proposed project will ensure continuity of TA services to special education personnel and leadership preparation programs to implement previously developed technology integration plans; and

(E) The expected impact of targeted, specialized TA;

(v) The proposed approach to intensive, sustained TA,⁶ which must describe—

⁶ “Intensive, sustained TA” means TA services often provided on-site and requiring a stable, ongoing relationship between the TA project staff and the TA recipient. “TA services” are defined as negotiated series of activities designed to reach a valued outcome. This category of TA should result in changes to policy, program, practice, or operations that support increased recipient capacity or improved outcomes at one or more systems levels.

(A) The intended recipients, including the type and number of recipients from a variety of settings and geographic distribution, that will receive the products and services designed to increase the integration of educational technologies in special education personnel and leadership preparation programs;

(B) The proposed approach to supporting faculty at IHEs in implementing the frameworks for integrating technology in preparation programs and engaging in sustained professional learning networks, which must include a plan to measure the readiness of potential recipients to work with the project, assessing, at a minimum, their current use of educational technology in the delivery of coursework, technology resources at the IHE, and ability to build educational technology capacity at the institutional level; and

(C) The expected impact of intensive, sustained TA;

(5) Develop products and implement services that maximize efficiency. To address this requirement, the applicant must describe—

(i) How the proposed project will use technology to achieve the intended project outcomes;

(ii) With whom the proposed project will collaborate and the intended outcomes of this collaboration; and

(iii) How the proposed project will use non-project resources, such as non-Federal funds and in-kind contributions, to achieve the intended project outcomes; and

(6) Systematically disseminate information, products, and services to varied intended audiences. To address this requirement the applicant must describe—

(i) The variety of dissemination strategies the project will use throughout the five years of the project to promote awareness and use of its products and services;

(ii) How the project will tailor dissemination strategies across all planned levels of TA to ensure that products and services reach intended recipients, and those recipients can access and use those products and services;

(iii) How the project's dissemination plan is connected to the proposed outcomes of the project; and

(iv) How the project will evaluate and correct all digital products and external communications to ensure they meet or exceed government or industry-recognized standards for accessibility.

(c) In the narrative section of the application under “Quality of the project evaluation or other evidence-building,” describe how the project will develop an evaluation plan in consultation with, and to be implemented by, a third-party ⁷ evaluator. The evaluation plan must—

⁷ A “third-party” evaluator is an independent and impartial program evaluator who is contracted by the grantee to conduct an objective evaluation of the project. This evaluator must not have participated in the development or implementation of any project activities, except for the evaluation activities, nor have any financial interest in the outcome of the evaluation.

(1) Articulate formative and summative evaluation questions across all planned levels of TA, including important process and outcome evaluation questions. These questions must be related to the project's proposed logic model required under paragraph (b)(2)(ii);

(2) Describe how progress in and fidelity of implementation, as well as project outcomes, will be measured to answer the evaluation questions. In measuring progress of implementation across all levels of TA, the plan should include criteria for determining the extent to which the project's products and services reached intended recipients; data, including feedback from recipients, on how recipients used the products and services; and the impact of the products and services. The plan should also specify sources for data, and measures and instruments appropriate to the evaluation questions, including information on reliability and validity of the measures and associated instruments where appropriate;

(3) Describe strategies for analyzing data and how data collected as part of this plan will be used to inform and improve service delivery over the course of the project and to refine the proposed logic model and evaluation plan, including subsequent data collection;

(4) Provide a timeline for conducting the evaluation and include staff assignments for completing the plan. The timeline must indicate that the data will be available annually for the annual performance report (APR); and

(5) Dedicate sufficient funds in each budget year to cover the costs of developing or refining the evaluation plan in consultation with a third-party evaluator, as well as the costs associated with the implementation of the evaluation plan by the third-party evaluator.

(d) Describe, in the narrative section of the application under “Adequacy of resources,” how—

(1) The project will make positive efforts to employ and advance in employment qualified individuals with disabilities;

(2) The applicant and any key partners have adequate resources to carry out the proposed activities;

(3) The applicant will ensure adequacy of resources for the proposed project and the quality of the personnel who will carry out the proposed project by addressing all aspects of the selection criteria for this section;

(4) The proposed project will have processes, resources, and funds in place to provide equitable access for project staff, contractors, and partners, who require digital accessibility accommodations; ⁸ and

⁸ For information about digital accessibility and accessibility standards, visit https://sites.ed.gov/idea/topic-areas/#Accessibility-Creating-Content and Section 504 and Technology Accessibility (www.ed.gov/laws-and-policy/civil-rights-laws/disability-discrimination/disability-discrimination-key-issues/disability-discrimination-technology-accessibility). Starting in either April 2026 or April 2027 (depending on the size of the school district), Title II of the Americans with Disabilities Act will require that public entities, including public schools, ensure that web content and mobile apps made available by the public entities are accessible in compliance with the Web Content Accessibility Guidelines (WCAG) 2.1, level AA. New Rule on the Accessibility of Web Content and Mobile Apps Provided by State and Local Governments (ada.gov).

(5) The proposed costs are reasonable in relation to the anticipated results and benefits, and funds will be spent in a way that increases their efficiency and cost-effectiveness, including by reducing waste or achieving better outcomes.

(d) Describe, in the narrative section of the application under “Quality of the management plan,” how—

(1) The proposed key project personnel, consultants, and subcontractors have the qualifications and experience to carry out the proposed activities and achieve the project's intended outcomes;

(2) The proposed project will implement project management techniques to ensure the project's intended outcomes will be achieved on time and within budget. To address this requirement, the applicant must describe how the management plan for the proposed project addresses all aspects of the selection criteria for this section; and

(3) The proposed management plan will ensure that the products and services provided are of high quality, relevant, and useful to recipients.

(f) Address the following application requirements. The applicant must—

(1) Include, in Appendix A, personnel-loading charts and timelines, as applicable, to illustrate the management plan described in the narrative;

(2) Include, in the budget, attendance at the following:

(i) A one and one-half day kick-off meeting in Washington, DC, after receipt of the award, and an annual planning meeting in Washington, DC, with the OSEP project officer and other relevant staff during each subsequent year of the project period.

Note: Within 30 days of receipt of the award, a post-award teleconference must be held between the OSEP project officer and the grantee's project director or other authorized representative;

(ii) A two-day project directors' conference in Washington, DC, during each year of the project period; and

(iii) Two annual two-day trips to attend Department briefings, Department-sponsored conferences, and other meetings, as requested by OSEP;

(3) Provide an assurance that the project will reallocate unused travel funds no later than the end of the third quarter if the kick-off or planning meetings are conducted virtually;

(4) Include, in the budget, a line item for an annual set-aside of 5 percent of the grant amount to support emerging needs that are consistent with the proposed project's intended outcomes, as those needs are identified in consultation with, and approved by, the OSEP project officer. With approval from the OSEP project officer, the project must reallocate any remaining funds from this annual set-aside no later than the end of the third quarter of each budget period;

(5) Provide an assurance that the project will engage doctoral students or post-doctoral fellows in the project to increase the number of future leaders in the field who are knowledgeable about integration of educational technology in special education personnel and leadership preparation programs;

(6) Ensure that annual project progress toward meeting project goals is posted on the project website; and

(7) Include, in Appendix A, an assurance to assist OSEP with the transfer of pertinent resources and products and to maintain the continuity of services to States during the transition to a new award at the end of this award period, as appropriate.

Fourth and Fifth Years of the Project:

In deciding whether to continue funding the project for the fourth and fifth years, the Secretary will consider the requirements of 34 CFR 75.253(a), including—

(a) The timeliness with which, and how well, the requirements of the negotiated cooperative agreement have been or are being met by the project; and

(b) The quality, relevance, and usefulness of the project's products and services and the extent to which the project's products and services are aligned with the project's objectives and likely to result in the project achieving its intended outcomes.

Under 34 CFR 75.253, the Secretary may reduce continuation awards or discontinue awards in any year of the project period for excessive carryover balances, a failure to make substantial progress, or where grantees have not maintained financial and administrative management systems that meet requirements in 2 CFR 200.302, Financial management, and 2 CFR 200.303, Internal controls. The Department intends to closely monitor unobligated balances and substantial progress under this program and may reduce or discontinue funding accordingly.

References:

Anderson, S.E., & Putman, R.S. (2020). Special education teachers' experience, confidence, beliefs, and knowledge about integrating technology. Journal of Special Education Technology, 35(1), 37-50. https://doi.org/10.1177/0162643419836409.

Center for Innovation, Design, and Digital Learning. (2024). Inclusive intelligence: The impact of AI on education for all learners. https://ciddl.org/wp-content/uploads/2024/04/InclusiveIntelligence_ally_navadded.pdf.

Foulger, T.S., Graziano, K.J., Schmidt-Crawford, D. & Slykhuis, D.A. (2017). Teacher educator technology competencies. Journal of Technology and Teacher Education, 25(4), 413-448. Society for Information Technology & Teacher Education. www.learntechlib.org/primary/p/ 181966/.

Hughes, J.E., Liu, S. & Lim, M. (2016). Technological modeling: Faculty use of technologies in preservice teacher education from 2004 to 2012. Contemporary Issues in Technology & Teacher Education, 16(2), 184-207. https://citejournal.org/wp-content/uploads/2016/05/v16i2Currentpractice.pdf.

Karchmer-Klein, R. (2020). Improving online teacher education: Digital tools and evidence-based practices. Teachers College Press. https://eric.ed.gov/?id=ED604126.

Kolb, L., Kashef, F., Roberts, C., Terry, C., & Borthwick, A. (2018, March 1-3). Challenges to creating and sustaining effective technology integration in teacher education programs [Paper presentation]. American Association of Colleges for Teacher Education Annual Conference, Baltimore, MD, United States.

National Academies of Sciences, Engineering, and Medicine. (2024). Artificial intelligence and the future of work. The National Academies Press. https://doi.org/10.17226/27644.

Polly, D., Martin, F., & Guilbaud, T.C. (2021). Examining barriers and desired supports to increase faculty members' use of digital technologies: Perspectives of faculty, staff and administrators. Journal of Computing in Higher Education, 33(1), 135-156. https://doi.org/10.1007/s12528-020-09259-7.

Vogel, S., Yadav, A., Phelps, D., & Patel, A. (2024). Entrypoints for integrating computing and tech into teacher education: Addressing problems and opportunities with the EnCITE framework. Journal of Technology and Teacher Education, 32(2), 217-248. https://learntechlib.org/primary/p/223851/.

Waterfield, D.A., Watson, L., & Day, J. (2024). Applying artificial intelligence in special education: Exploring availability and functionality of AI platforms for special educators. Journal of Special Education Technology, 39(3), 448-454. https://doi.org/10.1177/01626434241257237.

Waiver of Proposed Rulemaking: Under the Administrative Procedure Act (APA) (5 U.S.C. 553), the Department generally offers interested parties the opportunity to comment on proposed priorities. Section 681(d) of IDEA, however, makes the public comment requirements of the APA inapplicable to the priority in this notice.

Program Authority: 20 U.S.C. 1474, 1481, and 1482.

Note: Projects will be awarded and must be operated in a manner consistent with the nondiscrimination requirements contained in Federal civil rights laws.

Applicable Regulations: (a) The Education Department General Administrative Regulations in 34 CFR parts 75, 77, 79, 81, 82, 84, 86, 97, 98, 99, and 100. (b) The Office of Management and Budget (OMB) Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200 (Uniform Guidance), as adopted and amended as regulations of the Department in 2 CFR part 3474.

Note: The regulations in 34 CFR part 79 apply to all applicants except federally recognized Indian Tribes.

Note: The regulations in 34 CFR part 86 apply to IHEs only.

II. Award Information

Type of Award: Cooperative agreement.

Estimated Available Funds: $700,000.

Contingent upon the availability of funds and the quality of applications, we may make additional awards in FY 2026 from the list of unfunded applications from this competition.

Maximum Award: We will not make an award exceeding $700,000 for a single budget period of 12 months.

Estimated Number of Awards: 1.

Note: The Department is not bound by any estimates in this notice.

Project Period: Up to 60 months.

III. Eligibility Information

1. Eligible Applicants: State educational agencies; local educational agencies (LEAs), including public charter schools that are considered LEAs under State law; IHEs; other public agencies; private nonprofit organizations; freely associated States and outlying areas; Indian Tribes or Tribal organizations; and for-profit organizations.

Note: If you are a nonprofit organization, under 34 CFR 75.51, you may demonstrate your nonprofit status by providing: (1) proof that the Internal Revenue Service currently recognizes the applicant as an organization to which contributions are tax deductible under section 501(c)(3) of the Internal Revenue Code; (2) a statement from a State taxing body or the State attorney general certifying that the organization is a nonprofit organization operating within the State and that no part of its net earnings may lawfully benefit any private shareholder or individual; (3) a certified copy of the applicant's certificate of incorporation or similar document if it clearly establishes the nonprofit status of the applicant; or (4) any item described above if that item applies to a State or national parent organization, together with a statement by the State or parent organization that the applicant is a local nonprofit affiliate.

2. a. Cost Sharing or Matching: This competition does not require cost sharing or matching.

b. Indirect Cost Rate Information: This program uses an unrestricted indirect cost rate. For more information regarding indirect costs, or to obtain a negotiated indirect cost rate, please see www.ed.gov/about/ed-offices/ofo#Indirect-Cost-Division.

c. Administrative Cost Limitation: This program does not include any program-specific limitation on administrative expenses. All administrative expenses must be reasonable and necessary and conform to Cost Principles described in 2 CFR part 200 subpart E of the Uniform Guidance.

3. Subgrantees: Under 34 CFR 75.708(b) and (c), a grantee under this competition may award subgrants—to directly carry out project activities described in its application—to the following types of entities: IHEs, nonprofit organizations suitable to carry out the activities proposed in the application, and other public agencies. The grantee may award subgrants to entities it has identified in an approved application or that it selects through a competition under procedures established by the grantee, consistent with 34 CFR 75.708(b)(2).

4. Other General Requirements:

(a) Recipients of funding under this competition must make positive efforts to employ and advance in employment qualified individuals with disabilities (see section 606 of IDEA).

(b) Applicants for, and recipients of, funding must, with respect to the aspects of their proposed project relating to the absolute priority, involve individuals with disabilities, or parents of individuals with disabilities ages birth through 26, in planning, implementing, and evaluating the project (see section 682(a)(1)(A) of IDEA).

IV. Application and Submission Information

1. Application Submission Instructions: Applicants are required to follow the Common Instructions for Applicants to Department of Education Discretionary Grant Programs, published in the Federal Register on December 23, 2024 (89 FR 104528), and available at www.federalregister.gov/documents/2024/12/23/2024-30488/common-instructions-for-applicants-to-department-of-education-discretionary-grant-programs, which contain requirements and information on how to submit an application.

2. Intergovernmental Review: This competition is subject to Executive Order 12372 and the regulations in 34 CFR part 79. Information about Intergovernmental Review of Federal Programs under Executive Order 12372 is in the application package for this competition. Please note that, under 34 CFR 79.8(a), we have shortened the standard 60-day intergovernmental review period in order to make awards by the end of FY 2025.

3. Funding Restrictions: We reference regulations outlining funding restrictions in the Applicable Regulations section of this notice.

4. Recommended Page Limit: The application narrative is where you, the applicant, address the selection criteria that reviewers use to evaluate your application. We recommend that you (1) limit the application narrative to no more than 70 pages and (2) use the following standards:

• A “page” is 8.5″ x 11″, on one side only, with 1″ margins at the top, bottom, and both sides.

• Double-space (no more than three lines per vertical inch) all text in the application narrative, including titles, headings, footnotes, quotations, reference citations, and captions, as well as all text in charts, tables, figures, graphs, and screen shots.

• Use a font that is 12 point or larger.

• Use one of the following fonts: Times New Roman, Courier, Courier New, or Arial.

The recommended page limit does not apply to the cover sheet; the budget section, including the narrative budget justification; the assurances and certifications; or the abstract (follow the guidance provided in the application package for completing the abstract), the table of contents, the list of priority requirements, the resumes, the reference list, the letters of support, or the appendices. However, the recommended page limit does apply to all of the application narrative, including all text in charts, tables, figures, graphs, and screen shots.

V. Application Review Information

1. Selection Criteria: The selection criteria for this competition are from 34 CFR 75.210 and are as follows:

(a) Significance (15 points).

The Secretary considers the significance of the proposed project. In determining the significance of the proposed project, the Secretary considers the following factors:

(1) The extent to which the specific nature and magnitude of gaps or challenges are identified and the extent to which these gaps or challenges will be addressed by the services, supports, infrastructure, or opportunities described in the proposed project.

(2) The extent to which the resources, tools, and implementation lessons of the proposed project will be disseminated in ways to the target population and local community that will enable them and others (including practitioners, researchers, education leaders, and partners) to implement similar strategies.

(b) Quality of the project design (30 points).

The Secretary considers the quality of the design of the proposed project. In determining the quality of the design of the proposed project, the Secretary considers the following factors:

(1) The extent to which the goals, objectives, and outcomes to be achieved by the proposed project are clearly specified, measurable, and ambitious yet achievable within the project period, and aligned with the purposes of the grant program.

(2) The quality of the logic model or other conceptual framework underlying the proposed project, including how inputs are related to outcomes.

(3) The extent to which the services to be provided by the proposed project reflect up-to-date knowledge and an evidence-based project component.

(4) The extent to which the training or professional development services to be provided by the proposed project are of sufficient quality, intensity, and duration to build recipient and project capacity in ways that lead to improvements in practice among the recipients of those services.

(5) The extent to which the services to be provided by the proposed project involve the use of efficient strategies, including the use of technology, as appropriate, and the leveraging of non-project resources.

(c) Quality of the project evaluation or other evidence-building (20 points).

The Secretary considers the quality of the evaluation or other evidence-building of the proposed project. In determining the quality of the evaluation or other evidence-building, the Secretary considers the following factors:

(1) The extent to which the methods of evaluation or other evidence-building are thorough, feasible, relevant, and appropriate to the goals, objectives, and outcomes of the proposed project.

(2) The extent to which the methods of evaluation or other evidence-building are designed to measure the fidelity of implementation of the project.

(3) The extent to which the methods of evaluation or other evidence-building will provide performance feedback and provide formative, diagnostic, or interim data that is a periodic assessment of progress toward achieving intended outcomes.

(4) The extent to which the methods of evaluation or other evidence-building include the use of objective performance measures that are clearly related to the intended outcomes of the project and will produce quality data that are quantitative and qualitative.

(5) The extent to which the evaluation plan includes a dissemination strategy that is likely to promote others' learning from the project.

(d) Adequacy of resources (20 points).

The Secretary considers the adequacy of resources for the proposed project. In determining the adequacy of resources for the proposed project, the Secretary considers the following factors:

(1) The qualifications, including relevant training and experience, of project consultants or subcontractors.

(2) The extent to which the evaluator has the qualifications, including the relevant training, experience, and independence, required to conduct an evaluation of the proposed project, including experience conducting evaluations of similar methodology as proposed and with evaluations for the proposed population and setting.

(3) The adequacy of support for the project, including facilities, equipment, supplies, and other resources, from the applicant or the lead applicant organization.

(4) The relevance and demonstrated commitment of each partner in the proposed project to the implementation and success of the project.

(5) The extent to which the budget is adequate to support the proposed project and the costs are reasonable in relation to the objectives, design, and potential significance of the proposed project.

(e) Quality of the management plan (15 points).

The Secretary considers the quality of the management plan for the proposed project. In determining the quality of the management plan for the proposed project, the Secretary considers the following factors:

(1) The feasibility of the management plan to achieve project objectives and goals on time and within budget, including clearly defined responsibilities, timelines, and milestones for accomplishing project tasks.

(2) The extent to which the time commitments of the project director and principal investigator and other key project personnel are appropriate and adequate to meet the objectives of the proposed project.

(3) The extent to which the key personnel in the project, when hired, have the qualifications required for the proposed project, including formal training or work experience in fields related to the objectives of the project, and represent or have lived experiences of the target population.

(4) The adequacy of mechanisms for ensuring high-quality and accessible products and services from the proposed project for the target population.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

In the event there are two or more applications with the same final score, and there are insufficient funds to fully support each of these applications, the scores under selection criterion (b) Quality of the project design will be used as a tiebreaker. If the scores remain tied, then the scores under selection criterion (d) Adequacy of resources will be used to break the tie.

3. Additional Review and Selection Process Factors: In the past, the Department has had difficulty finding peer reviewers for certain competitions because so many individuals who are eligible to serve as peer reviewers have conflicts of interest. The standing panel requirements under section 682(b) of IDEA also have placed additional constraints on the availability of reviewers. Therefore, the Department has determined that for some discretionary grant competitions, applications may be separated into two or more groups and ranked and selected for funding within specific groups. This procedure will make it easier for the Department to find peer reviewers by ensuring that greater numbers of individuals who are eligible to serve as reviewers for any particular group of applicants will not have conflicts of interest. It also will increase the quality, independence, and fairness of the review process.

4. Risk Assessment and Specific Conditions: Consistent with 2 CFR 200.206, before awarding grants under this competition the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

5. Integrity and Performance System: If you are selected under this competition to receive an award that over the course of the project period may exceed the simplified acquisition threshold (currently $250,000), we must make a judgment about your integrity, business ethics, and record of performance under Federal awards—that is, the risk posed by you as an applicant—before we make an award. In doing so, we must consider any information about you that is in the System for Award Management's (SAM) Responsibility/Qualification reports (formerly referred to as the Federal Awardee Performance and Integrity Information System (FAPIIS). You may review and comment on any information about yourself that a Federal agency previously entered and that is currently in the Responsibility/Qualification reports in SAM.

If the total value of your currently active grants, cooperative agreements, and procurement contracts from the Federal Government exceeds $10,000,000, the reporting requirements in 2 CFR part 200, Appendix XII, require you to report certain integrity information to SAM semiannually. Please review these requirements if this grant plus all the other Federal funds you receive exceed $10,000,000.

VI. Award Administration Information

1. Award Notices: If your application is successful, we notify your U.S. Representative and U.S. Senators and send you a Grant Award Notification (GAN), or we may send you an email containing a link to access an electronic version of your GAN.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. See the standards in 2 CFR 170.105 to determine whether you are covered by 2 CFR part 170.

(b) At the end of your project period, you must submit a final performance report, including financial information, as directed by the Secretary. If you receive a multiyear award, you must submit an APR that provides the most current performance and financial expenditure information as directed by the Secretary under 34 CFR 75.118. The Secretary may also require more frequent performance reports under 34 CFR 75.720(c). For specific requirements on reporting, please go to www.ed.gov/fund/grant/apply/appforms/appforms.html.

5. Performance Measures: For the purposes of Department reporting under 34 CFR 75.110, the Department has established a set of performance measures that are designed to yield information on various aspects of the effectiveness and quality of the Educational Technology, Media, and Materials for Individuals with Disabilities program. These measures are:

• Program Performance Measure #1: The percentage of Educational Technology, Media, and Materials Program products and services judged to be of high quality by an independent review panel of experts qualified to review the substantial content of the products and services.

• Program Performance Measure #2: The percentage of Educational Technology, Media, and Materials Program products and services judged to be of high relevance to improving outcomes for infants, toddlers, children, and youth with disabilities.

• Program Performance Measure #3: The percentage of Educational Technology, Media, and Materials Program products and services judged to be useful in improving results for infants, toddlers, children, and youth with disabilities.

The measures apply to projects funded under this competition, and grantees are required to submit data on these measures as directed by OSEP.

Grantees will be required to report information on their project's performance in annual and final performance reports to the Department (34 CFR 75.590).

The Department will also closely monitor the extent to which the products and services provided by the project meet needs identified by stakeholders and may require the project to report on such alignment in its annual and final performance reports.

6. Continuation Awards: In making a continuation award, the Secretary considers, among other things: whether a grantee has made substantial progress in achieving the goals and objectives of the project; whether the grantee has expended funds in a manner that is consistent with its approved application and budget; if the Secretary has established performance measurement requirements, whether the grantee has made substantial progress in achieving the performance targets in the grantee's approved application; and whether the continuation of the project is in the best interest of the Federal Government.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, compact disc, or other accessible format.

Electronic Access to This Document: The official version of this document is the document published in the Federal Register. You may access the official edition of the Federal Register and the Code of Federal Regulations at www.govinfo.gov. At this site you can view this document, as well as all other Department documents published in the Federal Register, in text or Portable Document Format (PDF). To use PDF you must have Adobe Acrobat Reader, which is available free at the site.

You may also access Department documents published in the Federal Register by using the article search feature at www.federalregister.gov. Specifically, through the advanced search feature at this site, you can limit your search to documents published by the Department.

Diana Diaz,
Deputy Assistant Secretary and Acting Assistant Secretary for Special Education and Rehabilitative Services.

[FR Doc. 2025-11612 Filed 6-24-25; 8:45 am]

BILLING CODE 4000-01-P